DEPARTMENT OF HEALTH AND HUMAN SERVICES

Health Resources and Services Administration

Advisory Council on Blood Stem Cell Transplantation; Notice of Meeting

SUMMARY: In accordance with section 10(a)(2) of the Federal Advisory Committee Act (Pub. L. 92-463), notice is hereby given of the following meeting of the Advisory Council on Blood Stem Cell Transplantation (ACBSCT).

DATES: September 11, 2015 from 8:00 a.m. to 4:30 p.m. Eastern Time.

ADDRESSES: Health Resources and Services Administration, 5600 Fishers Lane, Rockville, MD 20857.

FOR FURTHER INFORMATION CONTACT: Patricia Stroup, MBA, MPA, Executive Secretary, Healthcare Systems Bureau, Health Resources and Services Administration, 5600 Fishers Lane, Room 17W65, Rockville, Maryland 20857; telephone (301) 443-1127.

SUPPLEMENTARY INFORMATION:

Status: The meeting will be open to the public.

Purpose: Pursuant to Public Law 109-129, 42 U.S.C. 274k (section 379 of the Public Health Service Act, as amended), the ACBSCT advises the Secretary of the Department of Health and Human Services and the Administrator, Health Resources and Services Administration, on matters related to the activities of the C.W. Bill Young Cell Transplantation Program (Program) and the National Cord Blood Inventory Program.

Agenda: The Council will hear a report from the ACBSCT Work Group on Advancing Hematopoietic Stem Cell Transplantation for Hemoglobinopathies. The Council also will hear presentations and discussions on topics including: past recommendations made to the Secretary, cord blood bank economics, status of Food and Drug Administration licensure of cord blood banks, and potential impact of haploidentical transplants. Agenda items are subject to changes as priorities indicate.

After Council discussions, members of the public will have an opportunity to provide comment. Because of the Council's full agenda and timeframe in which to cover the agenda topics, public comment may be limited. All public comments will be included in the record of the ACBSCT meeting. Meeting summary notes will be posted on HRSA's Program Web site at http://bloodcell.transplant.hrsa.gov/ABOUT/Advisory_Council/index.html.

The draft meeting agenda will be posted on https://www.blsmeetings.net/acbsct. Those participating at this meeting should pre-register by visiting https://www.blsmeetings.net/acbsct. The deadline to pre-register for this meeting is Thursday, September 10, 2015. Registration will be confirmed on site. For all logistical questions and concerns, please contact Anita Allen, Seamon Corporation, at (301) 658-3442 or send an email to aallen@seamoncorporation.com.

Participants can also join this meeting via teleconference by:

1. (Audio Portion) Calling the Conference Phone Number (800-988-0202) and providing the Participant Passcode (9115853); and

2. (Visual Portion) Connecting to the ACBSCT Adobe Connect Pro Meeting using the following URL and entering as GUEST: https://hrsa.connectsolutions.com/acbsct_webinar/ (copy and paste the link into your browser if it does not work directly, and enter as a guest).

Participants should call and connect 15 minutes prior to the meeting for logistics to be set up. If you have never attended an Adobe Connect meeting, please test your connection using the following URL: https://hrsa.connectsolutions.com/common/help/en/support/meeting_test.htm. In order to obtain a quick overview, go to the following URL: http://www.adobe.com/go/connectpro_overview. Call (301) 443-0437 or send an email to ptongele@hrsa.gov if you are having trouble connecting to the meeting site.

Public Comment: It is preferred that persons interested in providing an oral presentation email a written request, along with a copy of their presentation, to Patricia Stroup, MBA, MPA, Executive Secretary, Healthcare Systems Bureau, Health Resources and Services Administration, at pstroup@hrsa.gov. Requests should contain the name, address, telephone number, email address, and any business or professional affiliation of the person desiring to make an oral presentation. Groups having similar interests are requested to combine their comments and present them through a single representative.

The allocation of time may be adjusted to accommodate the level of expressed interest. Persons who do not file an advance request for a presentation, but desire to make an oral statement, may request it during the public comment period. Public participation and ability to comment will be limited as time permits.

Jackie Painter,
Director, Division of the Executive Secretariat.

[FR Doc. 2015-16137 Filed 7-6-15; 8:45 am]

BILLING CODE 4165-15-P